FEDERAL COMMUNICATIONS COMMISSION

Notice of Public Information Collection(s) Being Submitted for Review to the Office of Management and Budget

December 7, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 12, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@eop.omb.gov and to Judith-B.Herman@fcc.gov, Federal Communications Commission, Room 1-B441, 445 12th Street, SW., Washington, DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0855.

Title: Telecommunications Reporting Worksheet, CC Docket No. 96-45.

Form Nos.: FCC Forms 499-A and 499-Q.

Type of Review: Revision of a currently approved collection.

Respondents: Business or other for-profit and not-for-profit institutions.

Number of Respondents: 5,625 respondents; 17,465 responses.

Estimated Time per Response: 15 hours (average).

Frequency of Response: On occasion, one-time, annual and quarterly reporting requirements, recordkeeping requirement and third party disclosure requirement.

Obligation to Respond: Mandatory.

Total Annual Burden: 263,230 hours.

Total Annual Cost: N/A.

Privacy Act Impact Assessment: N/A.

Nature and Extent of Confidentiality: The Commission will allow respondents to certify that data contained in their submissions are privileged or confidential commercial or financial information and that disclosure of such information would likely cause substantial harm to the competitive position of the entity filing the Worksheet. If the Commission receives a request for or proposes to disclose the information, the respondent would be required to make the full showing pursuant to the Commission's rules for withholding from public inspection information submitted to the Commission. (See 47 CFR 0.459).

Needs and Uses: The Commission will submit this information collection to OMB as a revision during this comment period to obtain the full three-year clearance from them.

The Federal Communications Commission (Commission) requires telecommunications carriers and other providers of telecommunications to contribute to the Universal Service Fund (USF) and other funds. Contribution revenue data, as well as other information, are reported by carriers on FCC Forms 499-A (annual) and 499-Q (quarterly). Accompanying these forms are instructions on how to report revenue. The revisions that are proposed for this information collection will provide clarifications to the 2007 FCC Forms 499-A and 499-Q, and instructions in order to improve the revenue reporting process for respondents. The revisions provide filers with additional information concerning, for example, the reporting of prepaid calling card revenue to reflect clarifications adopted in various Commission orders; the treatment of wireline broadband internet access service revenue as a result of the Commission's Wireline Broadband Internet Access Services Order; and the filing of revenues by VoIP toll providers to reflect the Commission's IP-in-the-Middle Order. The revisions also provide guidance to entities regarding filing of Form 499-A and 499-Q following the merger of two entities. The forms and instructions also provide additional information on the need for, and use of, e-mail addresses from the filing entities. Other proposed changes to the forms and instructions would help respondents better determine how to report subject revenues and generally seek to provide respondents with an efficient, less burdensome information collection.

The revisions proposed will be minimal or have no effect on the burden associated with filing FCC Forms 499-A and 499-Q for respondents. The revisions proposed in this submission to OMB would go into effect January 31, 2007.

In addition, the 2006 FCC forms and instructions which already reflect the changes to the contribution methodology adopted in the 2006 Interim Contribution Methodology Order should remain in effect until the revised forms become effective January 31, 2007 and should continue to be available thereafter for filers to use in amending prior submissions. On July 27, 2006, the Commission received emergency approval of the information collection requirements in which the Commission made minor editorial corrections of typographical errors or omissions as well as other minor changes to ensure consistency between the forms and the instructions. OMB approval for emergency requests are only granted for six months, thus this collection's OMB approval will expire on 1/31/07. The Commission is now submitting this collection under OMB's regular procedures in order to obtain the full three year clearance from them.

Federal Communications Commission.
Marlene H. Dortch,
Secretary.

[FR Doc. E6-21204 Filed 12-12-06; 8:45 am]

BILLING CODE 6712-01-P